DEPARTMENT OF ENERGY

Federal Energy Regulatory Commission

[Docket No. CP20-493-000]

Tennessee Gas Pipeline Company, L.L.C.; Notice of Schedule for Environmental Review of the East 300 Upgrade Project

On June 30, 2020, Tennessee Gas Pipeline Company, L.L.C. (Tennessee) filed an application in Docket No. CP20-493-000 requesting a Certificate of Public Convenience and Necessity pursuant to Section 7(c) of the Natural Gas Act to construct and operate certain natural gas pipeline facilities in Pennsylvania and New Jersey. The proposed project is known as the East 300 Upgrade Project (Project), and consists of modifying two existing compressor stations and constructing one new compressor station to create 115 million cubic feet per day of firm transportation capacity on Tennessee's existing 300 Line.

On July 15, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA February 8, 2021

90-day Federal Authorization Decision Deadline May 9, 2021

If a schedule change becomes necessary, additional notice will be provided so that the relevant agencies are kept informed of the Project's progress.

Project Description

On its existing 300 Line, Tennessee proposes to construct: One 11,107 horsepower turbine and compressor building at its existing Compressor Station 321 in Susquehanna County, Pennsylvania; one 20,500 horsepower turbine and compressor building at its existing Compressor Station 325 in Sussex County, New Jersey; one new compressor station (“Compressor Station 327”) equipped with one 19,000 horsepower electric motor-driven compressor unit in the Township of West Milford in Passaic County, New Jersey; and associated auxiliary facilities and appurtenances.

Background

On August 13, 2020, the Commission issued a Notice of Intent to Prepare an Environmental Assessment for the Proposed East 300 Upgrade Project and Request for Comments on Environmental Issues (NOI). The NOI was sent to affected landowners; federal, state, and local government agencies; elected officials; environmental and public interest groups; Native American tribes; other interested parties; and local libraries and newspapers. The Commission received comments from Consolidated Edison Company of New York, Inc., the Township of West Milford, Food and Water Watch, and Sustainable West Milford. The primary issues raised by the commentors relate to: Water quality impacts on groundwater, streams, and the Monksville and Wanaque Reservoirs; air quality and noise; hydraulic fracturing impacts; climate change impacts from upstream, downstream, and indirect greenhouse gas emissions; safety; the need for clean energy alternatives; and general “impact upon the residents of West Milford.” All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-493), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 26, 2020.
Kimberly D. Bose,
Secretary.

[FR Doc. 2020-19250 Filed 8-31-20; 8:45 am]

BILLING CODE 6717-01-P